DEPARTMENT OF ENERGY

Federal Energy Regulatory Commission

North Hartland. LLC., et al.; Electric Rate and Corporate Filings

September 3, 2003.

The following filings have been made with the Commission. The filings are listed in ascending order within each docket classification.

1. North Hartland, LLC

[Docket No. EL03-215-000]

Take notice that on August 22, 2003 North Hartland, LLC (North Hartland) filed an amended complaint alleging that Central Vermont Public Service Corporation has violated its obligations under The Public Utility Regulatory Policy Act of 1978 (PURPA) and seeking Commission enforcement of PURPA.

Comment Date: September 18, 2003.

2. Allegheny Power

[Docket No. ER03-309-005]

Take notice that on August 28, 2003, Allegheny Energy Service Corporation, on behalf of Monongahela Power Company, The Potomac Edison Company and West Penn Power Company, doing business as Allegheny Power (Allegheny Power), tendered for filing with the Federal Energy Regulatory Commission a compliance filing in response to the Commission's July 29, 2003 Order in PJM Interconnection, L.L.C. et al., 104 FERC ¶ 61,154. Allegheny Power respectfully requests that the Commission accept the revised Interconnection and Operating Agreement to become effective December 20, 2002.

Allegheny Power states that a copy of this filing has been served on all parties identified on the official service list, Public Utilities Commission of Ohio, the Pennsylvania Public Utility Commission, the Maryland Public Service Commission, the Virginia State Corporation Commission and the West Virginia Public Service Commission.

Comment Date: September 18, 2003.

3. Moraine Wind LLC

[Docket No. ER03-951-002]

Take notice that on August 28, 2003, Moraine Wind LLC (Moraine Wind) filed substitute sheets to its Market-Based Rate Schedule (the Schedule) filed with the Federal Energy Regulatory Commission (Commission) on June 12, 2003. The amendments are made in accordance with the directive in the Commission's Order dated July 17, 2003, which required a change to the wording of the Schedule to conform to Commission precedent and practice regarding affiliate transactions (see 101 FERC ¶ 61,331).

Comment Date: September 18, 2003.

4. St. Paul Cogeneration, LLC

[Docket No. ER03-1212-001]

Take notice that on August 28, 2003, St. Paul Cogeneration, LLC (St. Paul) tendered for filing an errata to correct the pagination of their Code of Conduct in their Application for market-based rate authority filed on August 14, 2003 in Docket No. ER03-1212-000.

Comment Date: September 18, 2003.

5. Liberty Electric Power, LLC

[Docket No. ER03-1226-000]

Take notice that on August 19, 2003, Liberty Power, LLC (Liberty) filed a Notice of Cancellation of Service Agreement No. 1 under FERC Electric Tariff No. 1, which is a Tolling Agreement between Liberty and PG&E Energy Trading “ Power, L.P.

Comment Date: September 15, 2003.

6. Midwest Independent Transmission System Operator, Inc.

[Docket No. ER03-1260-000]

Take notice that on August 27, 2003, the Midwest Independent Transmission System Operator, Inc. (Midwest ISO) pursuant to section 205 of the Federal Power Act and Section 35.13 of the Commission's regulations, 18 CFR 35.13 (2002), submitted for filing a second revised Interconnection and Operating Agreement among GM Transmission, LLC, the Midwest ISO and Northern States Power Company d/b/a Xcel Energy.

Midwest ISO states that a copy of this filing was served on the GM Transmission, LLC and Northern States Power Company d/b/a Xcel Energy.Comment Date: September 17, 2003.

7. Tampa Electric Company

[Docket No. ER03-1261-000]

Take notice that on August 28, 2003, Tampa Electric Company (Tampa Electric) tendered for filing revised rate schedule sheets showing amendment of an exhibit to the contract for interchange service between Tampa Electric and Florida Power Corporation (FPC). Tampa Electric states that the amendment reflects a sale by Tampa Electric to FPC of a segment of transmission line that interconnects their respective systems. Tampa Electric proposes that the revised rate schedule sheets be made effective on August 14, 2003.

Tampa Electric states that copies of the filing have been served on FPC and the Florida Public Service Commission.

Comment Date: September 18, 2003.

8. Metropolitan Edison Company

[Docket No. ER03-1262-000]

Take notice that on August 28, 2003, Metropolitan Edison Company (Met-Ed), on behalf of itself and PPL Electric Utilities Corporation (PPL Electric), submitted for filing a revised Interconnection Agreement between Met-Ed and PPL Electric (Agreement). Met-Ed states that the Agreement has been revised by the addition of a “First Supplemental Agreement” and the “Second Supplemental Agreement” and has been redesignated as First Revised Service Agreement No. 941 under the PJM Interconnection, LLC (PJM) open access transmission tariff.

Met-Ed states that copies of this filing have been served on PPL Electric, PJM and regulators in the state of Pennsylvania.

Comment Date: September 18, 2003.

9. PPL Electric Utilities Corporation

[Docket No. ER03-1263-000]

On August 28, 2003, PPL Electric Utilities Corporation (PPL Electric) and Northampton Generating Company, L.P. (Northampton) filed with the Federal Energy Regulatory Commission (Commission) an amendment to PPL Electric's Rate Schedule FERC No. 112, which is a Transmission Service Agreement between PPL Electric and Northampton.

PPL Electric states that a copy of this filing has been provided to Northampton.

Comment Date: September 18, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-23253 Filed 9-11-03; 8:45 am]

BILLING CODE 6717-01-P